DEPARTMENT OF STATE

[Public Notice 3860]

Office of the Coordinator for Counterterrorism; Designation of Foreign Terrorist Organizations

AGENCY: Department of State.

ACTION: Designation.

Pursuant to section 219 of the Immigration and Nationality Act (“INA”), as added by the Antiterrorism and Effective Death Penalty Act of 1996, Public Law 104-132, § 302, 110 Stat. 1214, 1248 (1996), and amended by the Illegal Immigration Reform and Immigrant Responsibility Act of 1996, Public Law 104-208, 110 Stat. 3009 (1996), and by the Uniting and Strengthening America by Providing Appropriate Tools Required to Intercept and Obstruct Terrorism (USA PATRIOT ACT) Act of 2001, the Secretary of State hereby designates, effective December 24, 2001, the following organizations as foreign terrorist organizations:

Jaish e-Mohammed

also known as the Army of Mohammed

also known as Mohammed's Army

also known as Tehrik ul-Furqaan

Lashkar e-Tayyiba

also known as the LT

also known as Lashkar e-Toiba

also known as Lashkar-I-Taiba

also known as Army of the Righteous

Dated: December 18, 2001.
Mark Wong,
Acting Coordinator for Counterterrorism, Department of State.

[FR Doc. 01-31588 Filed 12-21-01; 5:00 pm]

BILLING CODE 4710-10-P